NUCLEAR REGULATORY COMMISSION

[NRC-2017-0040]

Initiatives To Address Gas Accumulation Following Generic Letter 2008-01

AGENCY: Nuclear Regulatory Commission.

ACTION: Draft regulatory issue summary; withdrawal.

SUMMARY: The U.S. Nuclear Regulatory Commission (NRC) is withdrawing draft Regulatory Issue Summary (RIS) 2017-XX, “Status of Regulatory Actions Taken to Address Gas Accumulation in Emergency Core Cooling, Decay Heat Removal, and Containment Spray Systems.” The NRC has decided to withdraw this RIS after reviewing the comments received during the public comment period.

DATES: The date of the withdrawal is September 21, 2017.

ADDRESSES: Please refer to Docket ID NRC-2017-0040 when contacting the NRC about the availability of information regarding this document. You may obtain publicly available information related to this document using any of the following methods:

• Federal Rulemaking Web site: Go to http://www.regulations.gov and search for Docket ID NRC-2017-0040. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Diana Woodyatt, Office of Nuclear Reactor Regulation, U.S. Nuclear Regulatory Commission, Washington DC 20555-000; telephone: 301-415-1245, email: Diana.Woodyatt@nrc.gov.

SUPPLEMENTARY INFORMATION: The NRC is withdrawing draft RIS 2017-XX “Status of Regulatory Actions Taken to Address Gas Accumulation in Emergency Core Cooling, Decay Heat Removal, and Containment Spray Systems” (ADAMS Accession No. ML16244A787). The NRC published a notice requesting public comment on this RIS in the Federal Register on February 13, 2017 (82 FR 10504). The NRC issues RISs to communicate with stakeholders on a broad range of matters. The draft RIS informed affected entities that licensees who choose not to implement two voluntary industry efforts to address gas accumulation issues must ensure that systems remain operable with respect to the potential for accumulation of gas, in accordance with their plant-specific technical specifications and their plants' licensing basis. Generic programmatic and licensing concerns with respect to gas accumulation were identified through the NRC's review of responses to Generic Letter (GL) 2008-01, “Managing Gas Accumulation in Emergency Core Cooling, Decay Heat Removal, and Containment Spray Systems,” dated January 11, 2008 (ADAMS Accession No. ML072910759).

As a result of its review of comments received on the RIS, the NRC has determined that final issuance of this RIS is not necessary. The agency received comments on the RIS from the Nuclear Energy Institute (ADAMS Accession No. ML17079A134), Southern Nuclear (ADAMS No. ML17081A016), and the Tennessee Valley Authority (ADAMS No. ML17081A017). Among other things, these comments pointed out that much of the guidance discussed in the RIS was issued after GL 2008-01, and suggested that discussing that guidance might confuse licensees about whether they need to perform additional actions in response to GL 2008-01. The NRC previously issued plant-specific closure letters following its review of licensee information submitted in response to GL 2008-01 and determined that no additional action was required.

Dated at Rockville, Maryland, this 8th day of September 2017.
For the Nuclear Regulatory Commission.
Alexander D. Garmoe,
Chief (Acting), Generic Communications Branch, Division of Policy and Rulemaking, Office of Nuclear Reactor Regulation.

[FR Doc. 2017-20118 Filed 9-20-17; 8:45 am]

BILLING CODE 7590-01-P